NATIONAL SCIENCE FOUNDATION

Conservation of Antarctic Animals and Plants

AGENCY: National Science Foundation.

ACTION: Notice of Permit Applications Received Under the Antarctic Conservation Act of 1978, Public Law 95-541.

SUMMARY: The National Science Foundation (NSF) is required to publish notice of permit applications received pursuant to the Antarctic Conservation Act of 1978. This is the required notice.

DATES: Interested parties are invited to submit written data, comments, or views with respect to these permit applications on or before March 10, 2000. The permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Joyce Jatko, Environmental Officer, at the above address or (703) 306-1032.

SUPPLEMENTARY INFORMATION: Raytheon Polar Services Company, a business unit of Raytheon Technical Services Company, is in the phase-in period for assuming responsibility for the contract to provide operations support to the United States Antarctic Program. As part of that support, Raytheon personnel will be required to engage in activities that require permitting under the Antarctic Conservation Act. Five separate permit applications have been submitted, as follows:

1. Entry into Antarctic Specially Protected Area 113, Litchfield Island, Arthur Harbor, Palmer Archipelago, for inspection and re-supply of the survival cache;

2. Entry into Antarctic Specially Protected Area 137, Northwest White Island, McMurdo Sound, for access to and maintenance of Black Island INMARSAT transmitting and receiving equipment;

3. Entry into Antarctic Specially Protected Area 128, Western Shore of Admiralty Bay, King George Island, for movement of personnel and supplies to and from the U.S. research station known as Copacabana;

4. Taking associated with removing penguins, seals and skuas from McMurdo Station and associated airfields to ensure safety of operations and protection of the animals;

5. Taking associated with removing penguins, seals and other birds from the Palmer Station pier to ensure safety of operations and protection of the animals.

The permit applicant is: Raytheon Polar Services Company, 16800 E. CentreTech Parkway, Aurora, CO 80011-9646. The proposed duration of each permit is from April 1, 2000 through March 31, 2005.

Joyce A. Jatko,
Acting Permit Officer.

[FR Doc. 00-2926 Filed 2-8-00; 8:45 am]

BILLING CODE 7555-01-M